DEPARTMENT OF THE INTERIOR

Office of Surface Mining Reclamation and Enforcement

Notice of Proposed Information Collection for 1029-0035

AGENCY: Office of Surface Mining Reclamation and Enforcement, Interior.

ACTION: Notice and request for comments.

SUMMARY: In compliance with the Paperwork Reduction Act of 1995, the Office of Surface Mining Reclamation and Enforcement (OSM) is announcing that the information collection request for surface and underground mining permit applications—minimum requirements for information on environmental resources, has been forwarded to the Office of Management and Budget (OMB) for review and comment. The information collection request describes the nature of the information collection and the expected burden and cost. This information collection activity was previously approved by OMB and assigned control number 1029-0035.

DATES: OMB has up to 60 days to approve or disapprove the information collections but may respond after 30 days. Therefore, public comments should be submitted to OMB by April 19, 2012, in order to be assured of consideration.

ADDRESSES: Submit comments to the Office of Information and Regulatory Affairs, Office of Management and Budget, Attention: Department of the Interior Desk Officer, by telefax to (202) 395-5806 or by email to OIRA_Docket@omb.eop.gov. Also, please send a copy of your comments to John Trelease, Office of Surface Mining Reclamation and Enforcement, 1951 Constitution Ave., NW., Room 203—SIB, Washington, DC 20240, by telefax to (202) 219-3276, or by email to jtrelease@osmre.gov.

FOR FURTHER INFORMATION CONTACT: To receive a copy of the information collection request contact John Trelease at (202) 208-2783, or electronically at jtrelease@osmre.gov. You may also review this information collection request on the Internet by going to http://www.reginfo.gov (Information Collection Review, Currently Under Review, Agency is Department of the Interior, DOI-OSMRE).

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. OSM has submitted a request to OMB to renew its approval of the collection of information contained in 30 CFR Parts 779 and 783—Surface and Underground Mining Permit Applications—Minimum Requirements for Information on Environmental Resources. OSM is requesting a 3-year term of approval for the information collection activity.

An agency may not conduct or sponsor, and a person is not required to respond to, a collection of information unless it displays a currently valid OMB control number. The OMB control number for this collection of information is 1029-0035. Responses are required to obtain a benefit for this collection.

As required under 5 CFR 1320.8(d), a Federal Register notice soliciting comments on this collection of information was published on November 28, 2011 (76 FR 72972). One comment was received. The commenter suggested that there is a connection between coal mine drilling and earthquakes, and that coal companies should be required to report recent earthquakes in the area where drilling is proposed to occur.

Earthquakes range from extremely small and virtually unnoticeable events to catastrophic events that cause considerable damage. Unlike oil and gas drilling operations, coal mining is typically undertaken at a much shallower depth, and without injection of great volumes of water to fracture (frack) the rock strata. Therefore, OSM's engineers consider it virtually impossible for coal mine drilling to cause a reportable earthquake. To be certain, we checked with the United States Geological Survey to determine if there is any evidence of coal mine drilling causing earthquakes. We found no mention of coal mine drilling causing earthquakes of any size. In conclusion, we have determined that the comment is not supported by available scientific information and therefore does not warrant conducting national rulemaking to request earthquake data in the permit area.

This notice provides the public with an additional 30 days in which to comment on the following information collection activity:

Title: 30 CFR Parts 779 and 783—Surface and Underground Mining Permit Applications—Minimum Requirements for Environmental Resources.

OMB Control Number: 1029-0035.

SUMMARY: Applicants for surface and underground coal mining permits are required to provide adequate descriptions of the environmental resources that may be affected by proposed mining activities. The information will be used by the regulatory authority to determine if the applicant can comply with environmental protection performance standards.

Bureau Form Number: None.

Frequency of Collection: Once.

Description of Respondents: 219 coal mining operators and 24 state regulatory authorities.

Total Annual Responses: 2,175.

Total Annual Burden Hours: 188,820.

Total Annual Non-Wage Burden Cost: $0.

Send comments on the need for the collection of information for the performance of the functions of the agency; the accuracy of the agency's burden estimates; ways to enhance the quality, utility and clarity of the information collection; and ways to minimize the information collection burdens on respondents, such as use of automated means of collections of the information, to the addresses listed in ADDRESSES. Please refer to the appropriate OMB control number in all correspondence.

Before including your address, phone number, email address, or other personal identifying information in your comment, you should be aware that your entire comment, including your personal identifying information, may be made publicly available at any time. While you can ask us in your comment to withhold your personal identifying information from public review, we cannot guarantee that we will be able to do so.

Dated: March 12, 2012.
Andrew F. DeVito,
Chief, Division of Regulatory Support.

[FR Doc. 2012-6654 Filed 3-19-12; 8:45 am]

BILLING CODE 4310-05-M